DEPARTMENT OF THE TREASURY

Submission for OMB Review; Comment Request

June 28, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 7, 2000 to be assured of consideration.

U.S. Customs Service (CUS)

OMB Number: 1515-0043.

Form Number: Customs Form 3311.

Type of Review: Extension.

Title: Declaration for Free Entry of Returned American Products.

Description: This collection of information is used as a supporting documents which substantiates the claim for duty free status for returning American products.

Respondents: Individuals or households, Business or other for-profit, Not-for-profit institutions.

Estimated Number of Respondents: 12,000.

Estimated Burden Hours Per Respondent: 6 minutes.

Frequency of Response: On occasion.

Estimated Total Reporting Burden: 51,000 hours.

OMB Number: 1515-0088.

Form Number: None.

Type of Review: Extension.

Title: Foreign Assemblers Declaration (with Endorsement by Importer).

Description: The Foreign Assembler's Declaration with Importer's Endorsement it used by Customs to substantiate a claim for duty free treatment of U.S. fabricated components sent abroad for assembly and subsequently returned to the U.S.

Respondents: Business or other for-profit, Not-for-profit institutions.

Estimated Number of Respondents: 2,730.

Estimated Burden Hours Per Respondent: 50 minutes.

Frequency of Response: On occasion.

Estimated Total Reporting Burden: 302,402 hours.

OMB Number: 1515-0191.

Form Number: Customs Form 5106.

Type of Review: Extension.

Title: Importer Input Record.

Description: This document is filed with the first formal entry which is submitted or the first request for services that will result in the issuance of a bill or refund check upon adjustment of a cash collection.

Respondents: Individuals or households, Business or other for-profit, Not-for-profit institutions.

Estimated Number of Respondents: 500.

Estimated Burden Hours Per Respondent: 6 minutes.

Frequency of Response: On occasion.

Estimated Total Reporting Burden: 100 hours.

Clearance Officer: J. Edgar Nichols (202) 927-1426, U.S. Customs Service, Information Services Branch, Ronald Reagan Building, 1300 Pennsylvania Avenue, N.W., Room 3.2.C, Washington, DC 20229.

OMB Reviewer: Alexander T. Hunt (202) 395-7860, Office of Management and Budget, Room 10202, New Executive Office Building, Washington, DC 20503.

Lois K. Holland,
Departmental Reports Management Officer.

[FR Doc. 00-17237 Filed 7-6-00; 8:45 am]

BILLING CODE 4820-02-P